NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 75 FR 55359, and no comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Recurring Study of National Science Foundation-sponsored Graduate Education Impacts or Legacy (GEIL). (Formerly called the Evaluation of the Initial Impacts of the Integrative Graduate Education Research and Traineeship (IGERT) Program.)

OMB Control No.: 3145-0182.

I. Abstract

Since 1998, the National Science Foundation (NSF) has supported interdisciplinary training of doctoral students across the nation through the Integrative Graduate Education and Research Traineeship (IGERT) Program. NSF awards IGERT grants to institutions that develop innovative, interdisciplinary doctoral training programs in science, technology, engineering, and mathematics (STEM) disciplines. Unlike traditional graduate research or teaching assistantships, IGERT provides doctoral students with unrestricted funds, including a living stipend plus tuition and fees. NSF intends to conduct an implementation evaluation of the program to learn what program elements are most effective in fostering interdisciplinary collaborations, research, and learning. Specifically, the evaluation will assess the program's perceived progress towards its three goals of fostering interdisciplinary education, recruiting and retaining a diverse population of graduate students, and catalyzing cultural change within institutions to better support interdisciplinary endeavors. Data from this collection will be used by NSF to respond to OMB and congressional inquiries, document best practices for training interdisciplinary scientists, and inform decisions about future project modifications.

II. Method of Collection

Data will be collected via interviews and surveys from faculty members and students who have participated in the five most recent cohorts (2005-2009) of IGERT projects.

III. Data

Affected Public: Individuals.

Estimated Number of Respondents: 632 (600 IGERT Trainees; 32 IGERT PIs).

Estimated Number of Responses per Respondent: 1.

Estimated Time per Response: 30 minutes—IGERT Trainees; 1.25 hours—IGERT PIs.

Estimated Total Annual Burden Hours: 340 hours.

Estimated Total Annual Cost: $12,220.

Dated: October 11, 2011.
Suzanne Plimpton,
Reports Clearance Officer, National Science Foundation.

[FR Doc. 2011-26640 Filed 10-13-11; 8:45 am]

BILLING CODE 7555-01-P